DEPARTMENT OF TRANSPORTATION

Federal Highway Administration

Notice To Rescind Notice of Intent To Prepare Environmental Impact Statement, Interstate 64 Hampton Roads Bridge-Tunnel Corridor, Virginia

AGENCY: Federal Highway Administration (FHWA), DOT.

ACTION: Notice to rescind Notice of Intent to prepare an Environmental Impact Statement.

SUMMARY: The Federal Highway Administration is issuing this notice to advise the public that FHWA is rescinding its Notice of Intent to prepare an Environmental Impact Statement for Interstate 64 Hampton Roads Bridge-Tunnel Corridor proposal in Virginia.

FOR FURTHER INFORMATION CONTACT: Edward Sundra, Director of Program Development, Federal Highway Administration, 400 North 8th Street, Suite 750, Richmond, VA 23219; email: Ed.Sundra@dot.gov; (804) 775-3357.

SUPPLEMENTARY INFORMATION: A Notice of Intent to prepare an Environmental Impact Statement for the Interstate 64 Hampton Roads Bridge-Tunnel Corridor proposal was published in the Federal Register in 2011 (76 FR 29290, May 20, 2011). The Draft Environmental Impact Statement was issued in December 2012, and public hearings were held shortly thereafter. Public and agency comments and concerns over the magnitude of potential environmental impacts to a variety of resources, such as impacts to historic resources as well as communities and neighborhoods, led to a preferred alternative not being identified and work was not conducted to advance the study further. Accordingly, FHWA is rescinding the Notice of Intent to prepare an Environmental Impact Statement for the Interstate 64 Hampton Roads Bridge-Tunnel Corridor proposal in Virginia. The Interstate 64 crossing of Hampton Roads is one alternative being studied as part of the Hampton Roads Crossing Study Supplemental Environmental Impact Statement, which is looking at alternatives over a much larger study area. A Notice of Intent to prepare that Supplemental Environmental Impact Statement was published in the Federal Register in June (80 FR 36038, June 23, 2015).

Authority: 23 U.S.C. 315; 23 CFR 771.

(Catalog of Federal Domestic Assistance Program Number 20.205, Highway Planning and Construction. The regulations implementing Executive Order 12372 regarding intergovernmental consultation on Federal programs and activities apply to this program.)

Edward Sundra,
Director of Program Development, Federal Highway Administration, Richmond, Virginia.

[FR Doc. 2015-20515 Filed 8-19-15; 8:45 am]

BILLING CODE 4910-22-P